DEPARTMENT OF COMMERCE

National Oceanic and Atmospheric Administration

[I.D. 100703A]

Endangered Species; Permit No. 1123

AGENCY: National Marine Fisheries Service (NMFS), National Oceanic and Atmospheric Administration (NOAA), Commerce.

ACTION: Scientific research permit modification.

SUMMARY: Notice is hereby given that requests for modifications of scientific research permits No. 1123 submitted by U.S. Fish and Wildlife Service (Edgard O. Espinoza, Primary Investigator), Office of Law Enforcement, National Fish and Wildlife Forensics Laboratory, 1490 East Main Street, Ashland, Oregon 97520, have been granted.

ADDRESSES: The modifications and related documents are available for review upon written request or by appointment in the following office(s):

Permits, Conservation and Education Division, Office of Protected Resources, NMFS, 1315 East-West Highway, Room 13705, Silver Spring, MD 20910 (phone 301/713-2289, fax 301/713-0376); and,

Northwest Region, NMFS, 7600 Sand Point Way NE, BIN C15700, Bldg. 1, Seattle, WA 98115-0700; phone (206)526-6150; fax (206)526-6426.

FOR FURTHER INFORMATION CONTACT: Jennifer Jefferies or Ruth Johnson, (301)713-2289.

SUPPLEMENTARY INFORMATION: The requested modifications have been granted under the authority of the Endangered Species Act of 1973, as amended (ESA; 16 U.S.C. 1531 et seq.) and the provisions of § 222.306 of the regulations governing the taking, importing, and exporting of endangered and threatened fish and wildlife (50 CFR 222-226).

NFWFL is authorized to possess samples of ESA-listed non-marine mammal and non-reptilian species under NMFS jurisdiction associated with genetic research studies and support of law enforcement actions. Law enforcement personnel have an ongoing need for scientific assistance in cases concerning endangered, protected, and managed marine species. The Fish and Wildlife Forensics Center provides technical/scientific assistance to a variety of law enforcement agencies including NMFS Enforcement, US Customs, US Fish and Wildlife Service as well as state wildlife enforcement agencies. Forensics analyses generally involve a biochemical or genetic test when a comparison is made between evidence and voucher samples. Voucher samples which are used in a forensics analysis are collected and maintained under strict criteria that includes documentation (species identification form) from the expert who has authenticated the samples; a chain of custody which originates with the sample collection; and storage under secure conditions. The issuance of this modification will extend the authorized activities through December 31, 2004.

Issuance of these modifications, as required by the ESA was based on a finding that such permits: (1) Were applied for in good faith; (2) will not operate to the disadvantage of the endangered species which is the subject of these permits; and (3) are consistent with the purposes and policies set forth in section 2 of the ESA.

Dated: October 10, 2003.
Carrie W. Hubard,
Acting Chief, Permits, Conservation and Education Division, Office of Protected Resources, National Marine Fisheries Service.

[FR Doc. 03-26396 Filed 10-17-03; 8:45 am]

BILLING CODE 3510-22-S